ELECTION ASSISTANCE COMMISSION

Notice; Request for Public Comment

AGENCY: U.S. Election Assistance Commission.

ACTION: Notice; correction.

SUMMARY: The U.S. Election Assistance Commission published a document in the Federal Register on March 16, 2023 in FR Doc. 2023-05342 regarding a correction to a document published to Federal Register on March 9, 2023 in FR Doc. 2023-04783, on page 14613 public comments on its annual review of the Voluntary Voting System Guidelines. The EAC is withdrawing the correction.

FOR FURTHER INFORMATION CONTACT: Paul Aumayr, phone (301) 960-1216, email: paumayr@eac.gov; U.S. Election Assistance Commission, 633 3rd Street NW, Suite 200, Washington, DC 20001.

SUPPLEMENTARY INFORMATION:

Correction

On March 16, 2023 in FR Doc. 2023-05342, the EAC corrected the Submission of Comments subsection of the ADDRESSES caption in Federal Register of March 9, 2023 in FR Doc. 2023-04783, on page 14613 in the first column, to read:

Submission of Comments: Comments on updates to VVSG 2.0 should be submitted electronically via https://www.regulations.gov/document/EAC_FRDOC_0001-0193 (FDMS docket ID: EAC-2023-0001). Written comments on the proposed information collection can also be sent to the U.S. Election Assistance Commission, 633 3rd Street NW, Suite 200, Washington, DC 20001, Attn: Testing & Certification.

This correction is being withdrawn. The original posting in Federal Register of March 9, 2023 in FR Doc. 2023-04783, on page 14613 in the first column is correct.

Camden Kelliher,
Associate Counsel, U.S. Election Assistance Commission.

[FR Doc. 2023-09601 Filed 5-4-23; 8:45 am]

BILLING CODE P